ENVIRONMENTAL PROTECTION AGENCY

[EPA-HQ-OPP-2022-0602; FRL-10028-01-OCSPP]

Nominations to the Federal Insecticide, Fungicide, and Rodenticide Act Scientific Advisory Panel (FIFRA SAP); Request for Comments

AGENCY: Environmental Protection Agency (EPA).

ACTION: Notice.

SUMMARY: This notice provides the names, addresses, and professional affiliations of persons recently nominated to serve on the Scientific Advisory Panel (SAP) established under the Federal Insecticide, Fungicide, and Rodenticide Act (FIFRA). The Agency, at this time, anticipates selecting new members to serve on the panel because of the upcoming expirations of membership terms. Current members of the SAP are eligible for reappointment during this period. Therefore, the appointments completed over the next year may include a mix of newly appointed and reappointed members. Public comments on the current nominations are invited, as these comments will be used to assist the Agency in selecting the new members for the FIFRA SAP.

DATES: Comments must be received on or before August 29, 2022.

ADDRESSES: Submit your comments, identified by docket identification (ID) number EPA-HQ-OPP-2022-0602, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Steven M. Knott, MS, Designated Federal Officer (DFO) and Chief of the Peer Review and Ethics Branch, Mission Support Division (7602M), Office of Program Support, Office of Chemical Safety and Pollution Prevention, Environmental Protection Agency; telephone number: (202) 564-0103; email address: knott.steven@epa.gov.

SUPPLEMENTARY INFORMATION:

I. General Information

A. Does this action apply to me?

This action is directed to the public in general. This action may, however, be of interest to persons who are or may be required to conduct testing of chemical substances under the Federal Food, Drug, and Cosmetic Act (FFDCA) and FIFRA. Given other entities may also be interested, the Agency has not attempted to describe all the specific entities that may be affected by this action. If you have any questions regarding the applicability of this action to a particular entity, consult the DFO listed under FOR FURTHER INFORMATION CONTACT.

B. What should I consider as I prepare my comments for EPA?

1. Submitting CBI. Do not submit CBI information to EPA through regulations.gov or email. If your comments contain any information that you consider to be CBI or otherwise protected, please contact the DFO listed under FOR FURTHER INFORMATION CONTACT to obtain special instructions before submitting your comments. Information properly marked as CBI will not be disclosed except in accordance with the procedures set forth in 40 CFR part 2.

2. Tips for preparing your comments. When preparing and submitting your comments, see the commenting tips at https://www.epa.gov/dockets/commenting-epa-dockets#tips.

C. What action is the Agency taking?

This document identifies persons recently nominated to serve on the SAP, from which the Agency, at this time, anticipates selecting new members to serve on the panel because of the upcoming expirations of membership terms. Public comments on these current nominations are invited, as these comments will be used to assist the Agency in selecting the new members for the FIFRA SAP.

D. What is the Agency's authority for taking this action?

The Panel is a federal advisory committee, established in 1975 under FIFRA (7 U.S.C. 136 et seq.), that operates in accordance with requirements of the Federal Advisory Committee Act (FACA) (5 U.S.C. appendix 2). In accordance with FACA requirements, a Charter for the FIFRA SAP, dated October 17, 2020, provides for open meetings with opportunities for public participation.

II. Background

The FIFRA SAP serves as a scientific peer review mechanism of EPA's Office of Chemical Safety and Pollution Prevention (OCSPP) and is structured to provide independent scientific advice, information, and recommendations to the EPA Administrator on pesticides and pesticide-related issues as to the impact of regulatory actions on health and the environment. The FIFRA SAP is composed of a permanent panel consisting of seven members who are appointed by the EPA Administrator from nominees provided by the National Institutes of Health (NIH) and the National Science Foundation (NSF). Members serve staggered terms of appointment, generally of three to six years duration. FIFRA established a Science Review Board (SRB) consisting of at least 60 scientists who are available to the FIFRA SAP on an ad hoc basis to assist in reviews conducted by the FIFRA SAP.

As a scientific peer review mechanism, the FIFRA SAP provides comments, evaluations, and recommendations to improve the effectiveness and quality of analyses made by Agency scientists. Members of the FIFRA SAP are scientists who have sufficient professional qualifications, including training and experience, to provide expert advice and recommendations to the Agency.

III. Nominees

A. Qualifications of Members

Members are scientists who have sufficient professional qualifications, including training and experience, to provide expert comments on the impact of pesticides on human health and the environment. In accordance with FIFRA section 25(d)(1), the Administrator shall require nominees to the FIFRA SAP to furnish information concerning their professional qualifications, including educational background, employment history, and scientific publications. No persons shall be ineligible to serve on the FIFRA SAP by reason of their membership on any other advisory committee to a federal department or agency, or their employment by a federal department or agency (except EPA). FIFRA further stipulates that the Agency publish the name, address, and professional affiliation of the nominees in the Federal Register.

B. Applicability of Existing Regulations

With respect to the requirements of FIFRA section 25(d) that the Administrator promulgate regulations regarding conflicts of interest, FIFRA SAP members are subject to the provisions of the Standards of Ethical Conduct for Employees of the Executive Branch at 5 CFR part 2635, conflict of interest statutes in Title 18 of the United States Code, and related regulations. Each nominee selected by the Administrator, before being formally appointed, is required to submit a Confidential Financial Disclosure Form, which shall fully disclose, among other financial interests, the nominee's sources of research support, if any.

C. Process of Obtaining Nominees

In accordance with the provisions of FIFRA section 25(d), on March 24, 2022, EPA requested that the NIH and the NSF nominate scientists to fill vacancies occurring on the FIFRA SAP. The Agency requested nominations of experts in the fields of ecological and human health risk assessment with specific expertise in terrestrial ecotoxicology and environmental fate modeling; nano technologies (especially related to exposure and hazard assessments); and microbiology, including antimicrobial susceptibility of a broad range of microorganism types. The Agency noted that experts with specific experience in risk assessment, dose response analysis, computational toxicology (new approach methodologies and in vitro to in vivo extrapolation), allergenicity, population modeling, cheminformatics, bioinformatics, and genomics are preferred. NIH and NSF responded, providing the Agency with a total of 64 nominees. Of these nominees, 24 are interested and available to actively participate in FIFRA SAP meetings (see Unit III.D.). The following 40 individuals are not available to be considered further for membership at this time (numbered for convenience only):

1. Lisa Cohen Alvarez, Ph.D., University of California-Berkeley, Berkeley, California.

2. Pedro Alvarez, Ph.D., Rice University, Houston, Texas.

3. Cesar Arias, MD, Ph.D., Houston Methodist Academic Institute, Houston, Texas.

4. Alberto Ascherio, Ph.D., Harvard T.H. Chan School of Public Health, Boston, Massachusetts.

5. Juliana Wardenburg Bubeck, MD, Ph.D., Washington University School of Medicine, St. Louis, Missouri.

6. Jiu-Chiuan Chen, Ph.D., University of Southern California, Los Angeles, California.

7. Weihsueh Chiu, Ph.D., Texas A&M University, College Station, Texas.

8. Deborah Dean, MD, MPH, University of California- San Francisco, San Francisco, California.

9. Francesca Dominici, Ph.D., Harvard T.H. Chan School of Public Health, Boston, Massachusetts.

10. Mary Dunlop, Ph.D., Boston University, Boston, Massachusetts.

11. Ashlee Earl, Ph.D., Broad Institute, Cambridge, Massachusetts.

12. Barbara Finlayson-Pitts, Ph.D., University of California-Irvine, Irvine, California.

13. Anthony Flores, MD, MPH, Ph.D., The University of Texas Health Science Center, Houston, Texas.

14. David Greenberg, MD, Ph.D., University of Texas Southwestern Medical Center, Dallas, Texas.

15. Maria Hadjifrangiskou, Ph.D., Vanderbilt University Medical Center, Nashville, Tennessee.

16. Mark Hahn, Ph.D., Woods Hole Oceanographic Institution, Woods Hole, Massachusetts.

17. Pam Hall, Ph.D., University of New Mexico, Albuquerque, New Mexico.

18. Mary Hausbeck, Ph.D., Michigan State University, East Lansing, Michigan.

19. Christy Haynes, Ph.D., University of Minnesota, Minneapolis, Minnesota.

20. Ron Hites, Ph.D., Indiana University, Bloomington, Indiana.

21. Robert Hurt, Ph.D., Brown University, Providence, Rhode Island.

22. Rebecca Klaper, Ph.D., University of Wisconsin, Milwaukee, Wisconsin.

23. Gyanu Lamichhane, Ph.D., Johns Hopkins University, Baltimore, Maryland.

24. Kim Lewis, Ph.D., Northeastern University, Boston, Massachusetts.

25. Jose Ribot Lopez, Ph.D., University of Texas, San Antonio, Texas.

26. Cole Matson, Ph.D., Baylor University, Waco, Texas.

27. Gary W. Miller, Ph.D., Columbia University, New York, New York.

28. Denise Monack, Ph.D., Stanford University, Stanford, California.

29. Suzanne Noble, Ph.D., University of California- San Francisco, San Francisco, California.

30. Kelli Palmer, Ph.D., University of Texas, Dallas, Texas.

31. Lina Quesada-Ocampo, Ph.D., North Carolina State University, Raleigh, North Carolina.

32. Gemma Reguera, Ph.D., Michigan State University, East Lansing, Michigan.

33. David Reif, Ph.D., North Carolina State University, Raleigh, North Carolina.

34. Elena Rustchenko, Ph.D., University of Rochester Medical Center, Rochester, New York.

35. Noelle Selin, Ph.D., Massachusetts Institute of Technology, Cambridge, Massachusetts.

36. Anna Selmecki, Ph.D., University of Minnesota, Minneapolis, Minnesota.

37. Christine Smart, Ph.D., Cornell University, Ithaca, New York.

38. Pedro Tarafa, Ph.D., University of Puerto Rico, Mayagüez, Puerto Rico.

39. Katrina Waters, Ph.D., Department of Energy, Pacific Northwest National Laboratory, Richland, Washington.

40. David Weis, Ph.D., Emory University, Atlanta, Georgia.

D. Interested and Available Nominees

The following are the names, addresses, and professional affiliations of current nominees being considered for membership on the FIFRA SAP (numbered for convenience only). Selected biographical data for each nominee is available in the docket identified under ADDRESSES and through the FIFRA SAP website at https://www.epa.gov/sap. The Agency, at this time, anticipates selecting new members to fill upcoming vacancies occurring on the Panel.

1. Erin S. Baker, Ph.D., North Carolina State University, Raleigh, North Carolina.

2. Dana Boyd Barr, Ph.D., Emory University, Atlanta, Georgia.

3. Scott M. Belcher, Ph.D., North Carolina State University, Raleigh, North Carolina.

4. Jose Cerrato, Ph.D., University of New Mexico, Albuquerque, New Mexico.

5. Deborah A. Cory-Slechta, Ph.D., University of Rochester Medical School, Rochester, New York.

6. Christina Cuomo, Ph.D., Broad Institute, Cambridge, Massachusetts.

7. Maurizio Del Poeta, MD, Stony Brook University, Stony Brook, New York.

8. Upal Ghosh, Ph.D., University of Maryland Baltimore County, Baltimore, Maryland.

9. Claudia Gunsch, Ph.D., Duke University, Durham, North Carolina.

10. Nishad Jayasundara, Ph.D., Duke University, Durham, North Carolina.

11. Jakub Kostal, Ph.D., George Washington University, Washington, District of Columbia.

12. Raina M. Maier, Ph.D., University of Arizona, Tucson, Arizona.

13. Stefano Monti, Ph.D., Boston University, Boston, Massachusetts.

14. Ingrid Padilla, Ph.D., University of Puerto Rico, Mayagüez, Puerto Rico.

15. Beate R Ritz, MD, Ph.D., University of California Los Angeles, Los Angeles, California.

16. Zeev Rosenzweig, Ph.D., University of Maryland Baltimore County, Baltimore, Maryland.

17. Tara L Sabo-Attwood, Ph.D., University of Florida, Gainesville, Florida.

18. Maria Reyes Sierra-Alvarez, Ph.D., University of Arizona, Tucson, Arizona.

19. Elsie M. Sunderland, Ph.D., Harvard University, Cambridge, Massachusetts.

20. Justin Teeguarden, Ph.D., Department of Energy, Pacific Northwest National Laboratory, Richland, Washington.

21. Lisa Truong, Ph.D., MBA, Oregon State University, Corvallis, Oregon.

22. Paul Westerhoff, Ph.D., Arizona State University, Tempe, Arizona.

23. Timothy R. Zacharewski, Ph.D., Michigan State University, East Lansing, Michigan.

24. Hao Zhu, Ph.D., Rutgers University, Camden, New Jersey.

Authority: 7 U.S.C. 136 et. seq.; 21 U.S.C. 301 et seq.; 5 U.S.C. Appendix

Dated: July 22, 2022.
Michal Freedhoff,
Assistant Administrator, Office of Chemical Safety and Pollution Prevention.

[FR Doc. 2022-16155 Filed 7-27-22; 8:45 am]

BILLING CODE 6560-50-P